DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of a meeting of the Marine Protected Areas Federal Advisory Committee (Committee) in Silver Spring, Maryland.

DATES: The meeting will be held Tuesday, June 12, 2012, from 8:30 a.m. to 5:30 p.m., Wednesday, June 13, from 8:30 a.m. to 5:00 p.m., and Thursday, June 14, from 8:30 a.m. to 12:00 p.m. These times and the agenda topics described below are subject to change. Refer to the Web page listed below for the most up-to-date meeting agenda.

ADDRESSES: The meeting will be held at the Crowne Plaza Hotel, 8777 Georgia Avenue, Silver Spring, MD 20910.

FOR FURTHER INFORMATION CONTACT: Kara Yeager, Designated Federal Officer, MPA FAC, National Marine Protected Areas Center, 1305 East West Highway, Silver Spring, Maryland 20910. (Phone: 301-713-3100 x162, Fax: 301-713-3110); email: kara.yeager@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158, which calls for the development of a National System of MPAs. The National System aims to strengthen existing MPAs and MPA programs through national and regional coordination, capacity building, science and analysis. The meeting is open to the public, and public comment will be accepted from 3:00 p.m. to 4:00 p.m. on Wednesday, June 13, 2012. In general, each individual or group will be limited to a total time of five (5) minutes. If members of the public wish to submit written statements, they should be submitted to the Designated Federal Official by June 8, 2012.

Matters To Be Considered: This meeting will be a joint meeting of the Committee and National System of MPA Partners (representatives from state and federal MPA agencies). The focus of the meeting will be learning about the findings and recommendations of the MPA Center External Review, sharing information about capabilities, needs and priorities of partners, and identifying ways in which the Committee can better support the federal and state programs that make up the National System of MPAs. The Committee meeting will include a panel presentation on MPAs and recreation and tourism. The Committee will receive a draft charge and form Subcommittees to address that charge. The agenda is subject to change. The latest version will be posted at http://www.mpa.gov.

Dated: May 12, 2012.
Margaret A. Davidson,
Director, Office of Ocean and Coastal Resource Management, National Ocean Service, National Oceanic Atmospheric Administration.

[FR Doc. 2012-11949 Filed 5-16-12; 8:45 am]

BILLING CODE 3510-08-P